DEPARTMENT OF ENERGY

Federal Energy Regulatory Commission

[Docket No. EC02-51-000, et al.]

Enron Corp., et al.; Electric Rate and Corporate Regulation Filings

February 20, 2002.

Take notice that the following filings have been made with the Commission. Any comments should be submitted in accordance with Standard Paragraph E at the end of this notice.

1. Enron Corp; Enron North America Corp; Enron Power Marketing, Inc.; Enron Net Works L.L.C.; UBS AG

[Docket No. EC02-51-000 and EL02-57-000]

Take notice that on February 13, 2002, Enron Corp. (on behalf of itself and Enron North America Corp., Enron Power Marketing, Inc., and Enron Net Works L.L.C.) (collectively, Enron Applicants) and UBS AG (UBS) filed with the Federal Energy Regulatory Commission (Commission) an application to request that the Commission disclaim jurisdiction over a transaction in which Enron Applicants will lease, license, and transfer certain assets to UBS. In the alternative, Enron and UBS (Applicants) seek authorization pursuant to section 203 of the Federal Power Act for that transaction. Applicants respectfully request that the Commission approve or disclaim jurisdiction over the transaction no later than the date that it acts on the UBS application for market-based rate authority filed on February 6, 2002 in Docket No. ER02-973-000.

Comment Date: March 11, 2002.

2. Kinder Morgan Power Company v. Southern Company Services, Inc.

[Docket No. EL01-115-004]

Take notice that on February 8, 2002, Southern Company Services, Inc., tendered for filing with the Federal Energy Regulatory Commission (Commission), a compliance filing pursuant to the Commission's order issued on January 30, 2002. The sole purpose of the filing is to correct a typographical error.

Comment Date: March 11, 2002.

3. Point Arguello Pipeline Company

[Docket Nos. EL02-54-000 and QF84-486-001]

Take notice that on February 6, 2002, Point Arquello Pipeline Company (PAPCO) filed with the Federal Energy Regulatory Commission (Commission), a notice of withdrawal of its Petition for Limited Waiver filed with the Commission on March 15, 2001 in the above-captioned proceedings.

Comment Date: March 8, 2002.

4. Wheelabrator Westchester, L.P.

[Docket No. ER98-3030-001]

Take notice that on June 18, 2001, Wheelabrator Westchester, L.P., formerly known as Westchester RESCO Company, L.P., (Westchester) a Qualifying Facility selling power at wholesale pursuant to market-based rate authority granted to it by the Federal Energy Regulatory Commission (Commission), tendered for filing with the Commission an updated market power analysis in compliance with the Commission's June 18, 1998 letter order in the above-referenced proceeding.

Comment Date: March 13, 2002.

5. Great Northern Paper, Inc.

[Docket No. ER02-501-001]

Take notice that on February 14, 2002, Great Northern Paper, Inc. (GNP) tendered its compliance filing with the Federal Energy Regulatory Commission (Commission) with respect to the Commission's Order issued January 22, 2002 herein granting its application for authorization to sell electric power and ancillary services at market based rates.

Comment Date: March 7, 2002.

6. Armstrong Energy Limited Partnership, LLLP; Pleasants Energy, LLC ; Troy Energy, LLC

[Docket No. ER02-835-001, ER02-836-001, and ER02-837-001]

Take notice that on February 14, 2002, Armstrong Energy Limited Partnership, LLP, Pleasants Energy, LLC and Troy Energy, LLC filed to modify their January 23, 2002 filing in the above-captioned proceeding.

Copies of the filing were served upon Ohio Public Utilities Commission, the Pennsylvania Public Service commission, the North Carolina Utilities Commission, Virginia State Corporation Commission and the Public Service Commission of West Virginia.

Comment Date: March 7, 2002.

7. Wolverine Power Supply Cooperative, Inc.

[Docket No. ER02-858-000]

Take notice that on February 14, 2002, Wolverine Power Supply Cooperative, Inc. tendered for filing in this Docket a transmittal letter dated January 28, 2002 to supercede the transmittal letter originally filed on January 28, 2002. This filing was amended in order to correct an administrative error that resulted in the transposition of cover letters among two filings concurrently made on January 28, 2002. This Docket concerns the Market-Based Power Sales Agreement between Wolverine Power Supply Cooperative, Inc. (Wolverine) and Great Lakes Energy Cooperative (AGreat Lakes). Wolverine requested an effective date of January 2, 2002 for this Agreement.

Wolverine states that a copy of this filing has been served upon Great Lakes Energy and the Michigan Public Service Commission.

Comment Date: March 7, 2002.

8. Wolverine Power Supply Cooperative Inc.

[Docket No. ER02-859-000]

Take notice that on February 14, 2002, Wolverine Power Supply Cooperative, Inc. tendered for filing in this Docket a transmittal letter dated January 28, 2002 to supercede the transmittal letter originally filed on January 28, 2002. This filing was amended in order to correct an administrative error that resulted in the transposition of cover letters among two filings concurrently made on January 28, 2002. In addition, the Transmission Agreements will be designated as Service Agreement No. 2 under Wolverine Power Supply Cooperative, Inc's FERC Electric Tariff, First Revised Vol. No. 1. This Docket concerns the Service Agreement for Network Integration Transmission Service and the Network Operating Agreement (collectively, Transmission Agreements) between Great Lakes Energy Cooperative and Wolverine Power Supply Cooperative, Inc (Wolverine). Wolverine requested an effective date of January 2, 2002 for this Service Agreement.

Wolverine states that a copy of this filing has been served upon Great Lakes Energy and the Michigan Public Service Commission.

Comment Date: March 7, 2002.

9. Progress Energy Inc. on behalf of Carolina Power & Light Company

[Docket No. ER02-1002-000]

Take notice that on February 12, 2002, Carolina Power & Light Company (CP&L) tendered for filing an executed Service Agreement between CP&L and the following eligible buyer, Calpine Energy Services, L.P. Service to this eligible buyer will be in accordance with the terms and conditions of CP&L's Market-Based Rates Tariff, FERC Electric Tariff No. 5.

CP&L requests an effective date of January 18, 2002 for this Service Agreement. Copies of the filing were served upon the North Carolina Utilities Commission and the South Carolina Public Service Commission.

Comment Date: March 5, 2002.

10. Entergy Services, Inc.

[Docket No. ER02-1017-000]

Take notice that on February 14, 2002, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and Union Power Partners, L.P.

Comment Date: March 7, 2002.

11. Entergy Services, Inc.

[Docket No. ER02-1023-000]

Take notice that on February 14, 2002, Entergy Services, Inc., on behalf of Entergy Arkansas, Inc., tendered for filing a unilaterally executed Interconnection and Operating Agreement with Hot Spring Power Company, LLC. (Tractabel), and a Generator Imbalance Agreement with Tractabel.

Comment Date: March 7, 2002.

12. Duke Energy Sandersville, LLC

[Docket No. ER02-1024-000]

Take notice that on February 14, 2002, Duke Energy Sandersville, LLC (Duke Sandersville) tendered for filing pursuant to Section 205 of the Federal Power Act its proposed FERC Electric Tariff No. 1.

Duke Sandersville seeks authority to sell energy and capacity, as well as ancillary services, at market-based rates, together with certain waivers and preapprovals. Duke Sandersville also seeks authority to sell, assign, or transfer transmission rights that it may acquire in the course of its marketing activities. Duke Sandersville seeks an effective date 60 days from the date of filing for its proposed rate schedules.

Comment Date: March 7, 2002.

13. Liberty Electric Power, LLC

[Docket No. ER02-1025-000]

Take notice that on February 14, 2002, Liberty Electric Power, LLC (Liberty Electric) filed with the Federal Regulatory Commission (Commission) the Tolling Agreement between Liberty Electric and PG&E Energy Trading—Power, L.P. (PGET) with a requested effective date of April 1, 2002. The filing is made pursuant to Liberty Electric's authority to sell power at market-based rates under its Market-Based Rate Tariff, Rate Schedule FERC No. 1, approved by the Commission on November 20, 2001, in Docket No. ER01-2398-000.

Comment Date: March 7, 2002.

14. Phelps Dodge Energy Services, L.L.C.

[Docket No. ER02-1026-000]

Take notice that on February 14, 2002, Phelps Dodge Energy Services, L.L.C. filed a request amending its market-based rate tariff, FERC Electric Rate Schedule No. 1, and its Code of Conduct to permit sales to its affiliates without making a separate filing under Section 205 under the Federal Power Act.

Comment Date: March 7, 2002.

15. Electric Energy, Inc.

[Docket No. ER02-1027-000]

Take notice that on February 14, 2002, Electric Energy, Inc. (EEInc.) tendered for filing a Letter Supplement dated October 5, 2001 to a power sale agreement between EEInc. and the United States Department of Energy (DOE) designated as Contract No. DE-AC05-760R01312 (EEInc. Rate Schedule FERC No. 10). EEInc. states that the Letter Supplement cancels the obligation of DOE to purchase Firm Additional Power from EEInc.

EEInc. has asked for waiver of any applicable requirements in order to make the Letter Supplement effective as of January 1, 2002, in accordance with its terms.

Comment Date: March 7, 2002.

16. Wrightsville Power Facility, L.L.C.

[Docket No. ER02-1028-000]

Take notice that on February 15, 2002, Wrightsville Power Facility, L.L.C. (Wrightsville) tendered for filing with the Federal Energy Regulatory Commission (Commission) an application for an order accepting its FERC Electric Tariff No. 1, granting certain blanket approvals, including the authority to sell electricity at market-base rates, and waiving certain regulations of the Commission. Wrightsville requested expedited Commission consideration. Wrightsville requested that its Rate Schedule No. 1 become effective upon the earlier of the date the Commission authorizes market-based rate authority, or March 21, 2002. Wrightsville also filed its FERC Electric Tariff No. 1.

Comment Date: March 8, 2002.

17. Oncor Electric Delivery Company

[Docket No. ER02-1029-000]

Take notice that on February 15, 2002, Oncor Electric Delivery Company (Oncor), tendered for filing a Notice of Succession pursuant to section 35.16 of the Commission's Regulations, 18 CFR 35.16. As a result of a name change, Oncor is succeeding to the tariffs and related service agreements of TXU Electric Delivery Company, effective January 17, 2002.

Comment Date: March 8, 2002.

18. UtiliCorp United Inc.

[Docket No. ES02-25-000]

Take notice that on February 15, 2002, UtiliCorp United Inc. submitted an application pursuant to section 204(a) of the Federal Power Act seeking authorization to issue, from time to time during a two-year period, unsecured notes and other obligations, including financial guarantees of securities issued by subsidiaries and affiliates up to and including $1,500,000,000, in the aggregate at any one time outstanding, for periods of time not exceeding twelve months after issuance.

Comment Date: March 8, 2002.

19. PJM Interconnection, L.L.C.

[Docket No. OA02-4-000]

Take notice that on February 5, 2002, PJM Interconnection, L.L.C. (PJM) submitted for filing PJM's amended FERC Order 889 Standards of Conduct (Code of Conduct). PJM proposes to amend its Code of Conduct to clarify that the code prohibits spouses or minor children of PJM employees, officers, or Board members from owning securities in market participants, but that, in limited circumstances, spouses or dependent children of PJM employees, officers, or Board members may own securities of market participants where the spouse's or dependent child's employee retirement or compensation plan prevents divesting the securities.

PJM proposes to make its amended Code of Conduct effective immediately, on February 6, 2002, the day after the date of this filing. Copies of this filing have been served on all PJM members and each state utility regulatory commission in the PJM control area.

Comment Date: March 7, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-4563 Filed 2-26-02; 8:45 am]

BILLING CODE 6717-01-P